SURFACE TRANSPORTATION BOARD

[Docket No. AB 1239 (Sub-No. 2X)]

City of Tacoma, Department of Public Utilities, Beltline Division—Discontinuance of Service Exemption—in Thurston County, WA

On August 15, 2016, the City of Tacoma (the City) filed with the Surface Transportation Board (Board) a petition under 49 U.S.C. 10502 for exemption from the prior approval requirements of 49 U.S.C. 10903 to discontinue common carrier service over approximately 10.2 miles of rail lines consisting of the following two segments (the Lines): (1) From milepost 3.72Q at Quadlok to milepost 0.0Q at St. Clair in Thurston County, Washington (the Quadlok-St. Clair line) and (2) from milepost 16.0B at Belmore to milepost 9.07B at Olympia in Thurston County, Washington (the Belmore-Olympia line). The Lines are owned by BNSF Railway Company (BNSF).

In 2004, the City acquired authority from the Board to operate over the Lines through a lease with BSNF.¹ The City states that its lease with BNSF expired on March 16, 2016, and that common carrier freight service obligations under the expired lease have now reverted back to BNSF. According to the City, BNSF has entered into a new operating lease over portions of the Lines with Genesee & Wyoming Inc.

¹ See City of Tacoma, Dep't of Pub. Utils., Beltline Div.—Acquis. & Operation Exemption—Lakeview Subdiv., Quadlok-St. Clair & Belmore-Olympia Rail Lines in Pierce & Thurston Ctys., Wash., FD 34555 (STB served Oct. 19, 2004).

The City states that it is not the owner of the Lines. As the former lessee, the City states that it does not know if the Lines contain federally granted rights-of-way, but that any documentation in its possession will be made available promptly to those requesting it.

The interest of railroad employees will be protected by the conditions set forth in Oregon Short Line Railroad—Abandonment Portion Goshen Branch Between Firth & Ammon, in Bingham & Bonneville Counties, Idaho, 360 I.C.C. 91 (1979).

Because this is a discontinuance proceeding and not an abandonment proceeding, trail use/rail banking and public use conditions are not appropriate. Because there will be environmental review during abandonment, this discontinuance does not require an environmental review.

By issuance of this notice, the Board is instituting an exemption proceeding pursuant to 49 U.S.C. 10502(b). A final decision will be issued by December 2, 2016.

Any offer of financial assistance (OFA) under 49 CFR 1152.27(b)(2) to subsidize continued rail service will be due no later than December 12, 2016, or 10 days after service of a decision granting the petition for exemption, whichever occurs first. Each OFA must be accompanied by a $1,700 filing fee. See Regulations Governing Fees for Servs. Performed in Connection with Licensing & Related Servs.—2016 Update, EP 542 (Sub-No. 24) (STB Served August 2, 2016).

All filings in response to this notice must refer to Docket No. AB 1239 (Sub-No. 2X) and must be sent to: (1) Surface Transportation Board, 395 E Street SW., Washington, DC 20423-0001; and (2) William Fosbre, Chief Deputy City Attorney, City of Tacoma-City Attorney's Office, 3628 S. 35th St., Tacoma, WA 98409. Replies to the petition are due on or before September 22, 2016.

Persons seeking further information concerning discontinuance procedures may contact the Board's Office of Public Assistance, Governmental Affairs, and Compliance at (202) 245-0238 or refer to the full abandonment or discontinuance regulations at 49 CFR part 1152. Questions concerning environmental issues may be directed to the Board's Office of Environmental Analysis (OEA) at (202) 245-0305. Assistance for the hearing impaired is available through the Federal Information Relay Service (FIRS) at 1-800-877-8339.

Board decisions and notices are available on our Web site at “WWW.STB.DOT.GOV.”

Decided: August 30, 2016.
By the Board, Rachel D. Campbell, Director, Office of Proceedings.
Tammy Lowery,
Clearance Clerk.

[FR Doc. 2016-21195 Filed 9-1-16; 8:45 am]

BILLING CODE 4915-01-P